DEPARTMENT OF STATE

[Public Notice 8133]

Shipping Coordinating Committee; Notice of Committee Meeting

The Shipping Coordinating Committee (SHC) will conduct an open meeting at 8:00 a.m. on Wednesday, January 23, 2013, in Room 5-1224 of the United States Coast Guard Headquarters Building, 2100 Second Street SW., Washington, DC 20593-0001. The primary purpose of the meeting is to prepare for the seventeenth Session of the International Maritime Organization's (IMO) Subcommittee on Bulk Liquids and Gases (BLG) to be held at the IMO Headquarters, United Kingdom, February 4-8, 2013.

The agenda items to be considered include:

—Adoption of the agenda

—Decisions of other IMO bodies

—Evaluation of safety and pollution hazards of chemicals and preparation of consequential amendments

—Additional guidelines for implementation of the BWM Convention

—Production of a manual entitled “Ballast Water Management—How to do it”

—Consideration of improved and new technologies approved for ballast water management systems and reduction of atmospheric pollution

—Development of international measures for minimizing the transfer of invasive aquatic species through biofouling of ships

—Development of international code of safety for ships using gases or other low-flashpoint fuels

—Development of a revised IGC Code

—Consideration of the impact on the Arctic of emission of Black Carbon from international shipping

—Development of relevant non-mandatory instruments as a consequence of the amended MARPOL Annex VI and NOX Technical Code

—Development of guidelines for replacement engines not required to meet the Tier III limit (MARPOL Annex VI)

—Development of guidelines pertaining to equivalents set forth in regulation 4 of MARPOL Annex VI and not covered by other guidelines

—Development of guidelines called for under paragraph 2.2.5.6 of the NOX Technical Code

—Development of a Code for the transport and handling of limited amounts of hazardous and noxious liquid substances in bulk on offshore support vessels

—Development of amendments to the provisions of SOLAS chapter II-2 relating to the secondary means of venting cargo tanks

—Consideration of IACS unified interpretations

—Casualty analysis

—Biennial agenda and provisional agenda for BLG 18

—Election of Chairman and Vice-Chairman for 2014

—Any other business

—Report to the Committees

Members of the public may attend this meeting up to the seating capacity of the room. To facilitate the building security process, and to request reasonable accommodation, those who plan to attend should contact the meeting coordinator, LT Sean Peterson, by email at Sean.M.Peterson@uscg.mil, by phone at (202) 372-1403, by fax at (202) 372-1925, or in writing at Commandant (CG-ENG-5), U.S. Coast Guard, 2100 2nd Street SW., Stop 7126, Washington, DC 20593-7126, not later than January 16, 2013, seven days prior to the meeting. Requests made after January 16, 2013, might not be able to be accommodated. Please note that due to security considerations, two valid, government issued photo identifications must be presented to gain entrance to the Headquarters building. The Headquarters building is accessible by taxi and privately owned conveyance (public transportation is not generally available). However, parking in the vicinity of the building is extremely limited. Additional information regarding this and other IMO SHC public meetings may be found at: www.uscg.mil/imo.

Dated: December 18, 2012.
Brian Robinson,
Executive Secretary, Shipping Coordinating Committee, Department of State.

[FR Doc. 2012-30959 Filed 12-21-12; 8:45 am]

BILLING CODE 4710-09-P